DEPARTMENT OF DEFENSE

Office of the Secretary

Charter Renewal of Department of Defense Federal Advisory Committees

AGENCY: Department of Defense.

ACTION: Renewal of federal advisory committee.

SUMMARY: The Department of Defense is publishing this notice to announce that it is renewing the charter for the Board on Coastal Engineering Research (“the Board”).

FOR FURTHER INFORMATION CONTACT: Jim Freeman, Advisory Committee Management Officer for the Department of Defense, 703-692-5952.

SUPPLEMENTARY INFORMATION: The Board's charter is being renewed pursuant to 33 U.S.C. 426-2 and in accordance with the Federal Advisory Committee Act (FACA) of 1972 (5 U.S.C., Appendix, as amended) and 41 CFR 102-3.50(a). The Board's charter and contact information for the Board's Designated Federal Officer (DFO) can be found at https://www.facadatabase.gov/FACA/apex/FACAPublicAgencyNavigation. The Board provides the Coastal and hydraulics Laboratory, which includes the Coastal Engineering Research Center, through the Chief of Engineers/Commander (“the Chief of Engineers”), U.S. Army Corps of Engineers (“the Corps of Engineers”), independent advice and recommendations on coastal engineering research priorities and additional functions as assigned by the Chief of Engineers.

Pursuant to 33 U.S.C. 426-2, the Board shall be composed of seven members. The DoD, pursuant to the authorizing legislation, shall appoint four officers of the Corps of Engineers to the Board as ex-officio appointments, with one position being occupied by the Deputy Commanding General for Civil and Emergency Operations, U.S. Army Corps of Engineers for no fixed term of service. The Chief of Engineers, in consultation with the Assistant Secretary of the Army (Civil Works), shall determine which three of the eight coastal division commanders shall be nominated as the other ex-officer members of the Board. The Chief of Engineers, in determining which of the coastal division commanders shall serve on the Board, shall consider the individual's tenure as a division commander and his or her expertise in the matters before the Board.

The remaining three Board members shall be civilian engineers recommended by the Chief of Engineers for their expertise in the field of beach erosion, shore protection, and coastal processes and infrastructure. The Deputy Commanding General for Civil and Emergency Operations, Corps of Engineers, shall serve as the President of the Board.

The appointment of the civilian Board members and the three coastal division commanders shall be approved by the Secretary of Defense, the Deputy Secretary of Defense, or the Chief Management Officer for the Department of Defense (CMO) (“the DoD Appointing Authorities”), for a term of service of one-to-four years, in accordance with DoD policies and procedures. No member, unless approved by the DoD Appointing Authorities, may serve more than two consecutive terms of service on the Board, to include its subcommittees, or serve on more than two DoD federal advisory committees at one time. All Board members are appointed to provide advice on the basis of their best judgment without representing any particular point of view and in a manner that is free from conflict of interest.

Pursuant to section 105 of Public Law 91-611, special government employee members may be paid at a rate not to exceed the daily equivalent of the rate for a GS-15, step 10, for each day of attendance at Board meetings, not to exceed 30 days per year, in addition to travel and other necessary expenses connected with their official duties on the Board, in accordance with the provisions of 5 U.S.C. 5703(b), (d) and 5707. Regular government employee members may be reimbursed for official Board-related travel and per diem.

The public or interested organizations may submit written statements to the Board membership about the Board's mission and functions. Written statements may be submitted at any time or in response to the stated agenda of planned meeting of the Board. All written statements shall be submitted to the DFO for the Board, and this individual will ensure that the written statements are provided to the membership for their consideration.

Dated: February 26, 2019.
Shelly Finke,
Alternate OSD Federal Register Liaison Officer, Department of Defense.

[FR Doc. 2019-03700 Filed 2-28-19; 8:45 am]

BILLING CODE 5001-06-P